DEPARTMENT OF AGRICULTURE

Agricultural Marketing Service

7 CFR Part 1214

[Document No. AMS-SC-18-0104]

Christmas Tree Promotion Research, and Information Order; Referendum

AGENCY: Agricultural Marketing Service, USDA.

ACTION: Notification of referendum.

SUMMARY: This document directs that a referendum be conducted among eligible producers and importers of Christmas trees to determine whether they favor continuance of the Agricultural Marketing Service's (AMS) regulations regarding a national Christmas tree research and promotion program.

DATES: The referendum will be conducted by mail ballot from April 22 through May 17, 2019. The U.S. Department of Agriculture (Department) will provide the option for ballots to be returned electronically. Further details will be provided in the ballot instructions. Mail ballots must be postmarked by May 17, 2019. Ballots returned via express mail or electronic mail must show proof of delivery by no later than 11:59 p.m. Eastern Time (ET) on May 17, 2019 to be counted.

ADDRESSES: Copies of the Christmas tree program may be obtained from: Referendum Agent, Promotion and Economics Division, Specialty Crops Program, AMS, USDA, 1400 Independence Avenue SW, Room 1406-S, Stop 0244, Washington, DC 20250-0244, telephone: (202) 720-9915; facsimile: (202) 205-2800; or contact Patricia Petrella at (202) 720-9915 or via electronic mail: Patricia.Petrella@ams.usda.gov.

FOR FURTHER INFORMATION CONTACT: Patricia Petrella, Deputy Director, Promotion and Economics Division, Specialty Crops Program, AMS, USDA, 1400 Independence Avenue SW, Room 1406-S, Stop 0244, Washington, DC 20250-0244; telephone: (202) 720-9915, facsimile: (202) 205-2800; or electronic mail: Patricia.Petrella@ams.usda.gov.

SUPPLEMENTARY INFORMATION: Pursuant to the Commodity Promotion, Research, and Information Act of 1996 (7 U.S.C. 7411-7425) (1996 Act), it is hereby directed that a referendum be conducted to ascertain whether continuance of the Christmas Tree Promotion, Research, and Information Order (7 CFR part 1214) (Order) is favored by eligible domestic producers and importers of Christmas trees. The Order is authorized under the 1996 Act.

The representative period for establishing voter eligibility for the referendum shall be the period from September 1, 2018 through March 15, 2019. Persons who domestically produced or imported more than 500 trees during the representative period and were subject to assessments during that period are eligible to vote. Persons who received an exemption from assessments pursuant to § 1214.53 for the entire representative period are ineligible to vote. The referendum will be conducted by mail and email ballot from April 22 through May 17, 2019. The Department will provide the option for ballots to be returned electronically. Further details will be provided in the ballot instructions.

Section 518 of the 1996 Act (7 U.S.C. 7417) authorizes required referenda. Under § 1214.81(a) of the Order, the Department must conduct a referendum not later than three years after assessments first begin under the order to determine whether persons subject to assessment favor continuance of the program. The Board conducted this required referendum in May 2018, passing by a narrow margin. In addition, the Order allows for a referendum to be conducted at any time as determined by the Secretary (7 CFR 1214.81(b)(5)). As such, due to the close results of the 2018 referendum, the Department is announcing the conduct of this referendum. The Department will continue the program if it is favored by a majority of producers and importers of Christmas trees voting in the referendum.

In accordance with the Paperwork Reduction Act of 1995 (44 U.S.C. chapter 35), the referendum ballot has been approved by the Office of Management and Budget (OMB) and assigned OMB No. 0581-0093. It has been estimated that approximately 1,200 entities would be eligible to vote in the referendum. It will take an average of 15 minutes for each voter to read the voting instructions and complete the referendum ballot.

Patricia Petrella, Deputy Director, and Heather M. Pichelman, Director, Promotion and Economics Division, Specialty Crops Program, AMS, USDA, Stop 0244, Room 1406-S, 1400 Independence Avenue SW, Washington, DC 20250-0244, are designated as the referendum agents to conduct this referendum. The referendum procedures at 7 CFR 1214.100 through 1214.108, which were issued pursuant to the 1996 Act, shall be used to conduct the referendum.

The referendum agent will distribute the ballots to be cast in the referendum and voting instructions by U.S. mail, FedEx, or through electronic mail to all known, eligible domestic producers and importers prior to the first day of the voting period. Persons who domestically produced or imported 500 or more Christmas trees during the representative period, and were subject to assessment during that period, are eligible to vote. Persons who received an exemption from assessments pursuant to § 1214.53 during the entire representative period are ineligible to vote. Any eligible producer or importer who does not receive a ballot should contact the referendum agent as soon as possible. Ballots delivered to the Department via regular U.S. mail must be postmarked by May 17, 2019. Ballots delivered to the Department via express mail or electronic mail must show proof of delivery by no later than 11:59 p.m. Eastern Time (ET) on May 17, 2019.

List of Subjects in 7 CFR Part 1214

Administrative practice and procedure, Advertising, Consumer information, Christmas trees, Marketing agreements, Reporting and recordkeeping requirements.

Authority: 7 U.S.C. 7411-7425; 7 U.S.C. 7401.

Dated: March 6, 2019.
Erin Morris,
Associate Administrator.

[FR Doc. 2019-04344 Filed 3-8-19; 8:45 am]

BILLING CODE 3410-02-P